DEPARTMENT OF AGRICULTURE

Forest Service

Medicine Bow-Routt National Forests, Brush Creek/Hayden Ranger District Saratoga, WY

Title: Savery.

AGENCY: Forest Service, USDA.

ACTION: Notice of intent to prepare an environmental impact statement.

SUMMARY: Epidemic levels of mountain pine beetle continue to spread across National Forest System lands in northern Colorado and southern Wyoming. It is a priority to restore forest and watershed health to these affected areas. In areas managed to produce commercial wood products, it is necessary to salvage merchantable timber and regenerate these forests. At this large scale, deadfall in beetle-kill areas has the potential to slow or prevent forest regeneration; negatively impact grazing and recreation; increase fuel loading, fire hazard, and the potential for large, high-intensity fires, and create public safety hazards.

The Forest Service will prepare an Environmental Impact Statement (EIS) to analyze and disclose the environmental effects of implementing a variety of proposed actions within the Savery Analysis Area of the Brush Creek/Hayden Ranger District of the Medicine Bow-Routt National Forests within Carbon County, Wyoming. Proposed actions include prescribed burning to create conditions that promote regenerating forests and rangelands, and commercial timber sales to salvage merchantable timber, decrease potential fire hazards, and remove dead and dying trees that are posing a public safety hazard in high priority areas. The proposal also includes habitat improvement projects, recreation improvement proposals, and travel management.

DATES: The draft environmental impact statement is expected to be filed with the Environmental Protection Agency (EPA) and available for public review during July 2010. At that time, the EPA will publish a Notice of Availability (NOA) of the draft EIS in the Federal Register. The comment period on the draft EIS will be for a period of not less than 45 days from the date the EPA publishes the NOA in the Federal Register. It is important that those interested in the management of this area comment at that time.

The final EIS is expected to be available in September 2010. In the final EIS, the Forest Service will respond to any comments received during the public comment period that pertain to the environmental analysis. Those comments and the Forest Service responses will be disclosed and discussed in the final ElS and will be considered when the final decision about this proposal is made.

ADDRESSES: Send written comments to Brian Waugh, Brush Creek/Hayden Ranger District, PO Box 249, Saratoga, WY 82331. Comments may also be sent via electronic mail (e-mail) to comments-rocky-mountain-medicine-bow-routt-brush-creek-haydenfs.fed.us and FAX may be sent to (307) 326-5250. Please reference the Savery Analysis on the subject line. It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Brian Waugh, Environmental Coordinator, (307) 326-2518, or M. Stephen Best, District Ranger, (307) 326-5250, Brush Creek/Hayden Ranger District, PO Box 249, Saratoga, WY 82331.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Savery Project is to restore forest health and productivity to the area to meet the needs of present and future generations by implementing forest management techniques that will salvage (beetle-killed) dead and dying trees; reduce hazardous fuels; provide forest products; promote forest regeneration; reduce hazard trees from high priority areas affecting public safety; improve recreational facilities and opportunities; improve wildlife habitat diversity; repair soil and water resource damaged areas; and decommission, relocate and/or maintain portions of the existing road and trail systems that are detrimentally contributing to watershed health.

There is a need to:

• Provide merchantable timber products for sale and to salvage and remove dead and dying trees from forested lands classified as being suitable in order to keep them in production and positively contributing to the Forest's future Allowable Sale Quantity.

• Remove dead and dying trees to promote and enhance regeneration opportunities.

• Treat overstocked timber stands to improve growth and vigor.

• Reduce the development of large continuous high hazard fuel conditions in high timber production areas.

• Maintain and improve aspen stand health and plant diversity to enhance wildlife habitat.

• Maintain or enhance Colorado River cutthroat trout.

• Decommission, relocate, maintain, and improve drainage along road segments within the analysis area that are contributing to degraded resource conditions.

• Restore hillslope hydrology and subsurface flow along roads.

• Reduce connected disturbed areas and channel network extensions throughout the analysis area to minimize increases in peak streamflow.

• Upgrade recreational facilities and improve recreation opportunities within the analysis area to meet increasing demand.

Proposed Action

The proposed action would salvage approximately 11,755 acres of dead and dying beetle-killed lodgepole pine and precommercial thinning would occur on approximately 2,528 acres of young overstocked lodgepole pine. Prescribed burning would occur on approximately 2,232 acres to improve age class diversity and reduce fuel hazards. Fuel breaks are planned on approximately 359 acres and are generally located along roads and in proposed cutting units. Treatments to improve Colorado River cutthroat trout habitat is proposed on approximately 116 acres to enhance aspen regeneration and enhance development of pooling habitat. Approximately 102 acres of this proposed treatment would occur in the Singer Peak Inventoried Roadless Area. The travel management proposal would identify the minimal road system needed to meet Forest management and recreation needs while addressing ongoing resource damage associated with roads and trails by decommissioning approximately 38 miles of road, constructing approximately one mile, reconstructing approximately 1.5 miles, rerouting approximately .75 miles, and converting approximately 4.5 miles of existing roads to All Terrain Vehicle (ATV) trails. Approximately 12 miles of user created roads are proposed to be added to the road system. Recreation proposals include development of approximately seven miles of nonmotorized trails along with a trailhead facility for the two trail loops near or adjacent to the Jack Creek Campground. Reconstruction or enlargement of the Jack Creek Campground is proposed to more readily accommodate RV's and provide additional campsites. Development of ATV loop trails on existing designated routes along with 3.4 miles of new trail construction with an emphasis on loops tying back into the Jack Creek campground/dispersed camping areas, the Hart Creek trailhead, and onto the existing ATV route on National Forest System Road 412 along the continental divide. This would add approximately 32.8 miles of designated trails to the Wyoming Off Highway Vehicle Trail System and would include a combination of open roads, newly proposed ATV trail segments, and road to trail conversions. Decommissioning of the Haskins Creek Campground would also be implemented with this project.

Responsible Official

M. Stephen Best, District Ranger, USDA Forest Service, Medicine Bow-Routt National Forests, Brush Creek/Hayden Ranger District, PO Box 249, Saratoga, Wyoming 82331, is the official responsible for making the decision on this action.

Nature of Decision To Be Made

The Responsible Official will consider the results of the analysis and its findings and then document one or more final decision(s) for each proposed action. More than one Record of Decision (ROD) will be issued based on this analysis. The decisions will include a determination whether or not to implement the proposed action or another alternative.

Preliminary Issues

Natural disturbances (fire, beetle) has resulted in a high percentage of many project area watersheds with dead or young trees. Measurable increases in water yield are expected in these watersheds, with either no action or implementation of the proposed action.

Scoping Process

This notice of intent initiates the scoping process, which guides the development of the Environmental Impact Statement (EIS). The Forest Service has listed the project in the Schedule of Proposed Actions that is posted on the Web. One meeting will be planned after the draft EIS is available. The Forest Service will also respond to information requests about the project and add additional public meetings and field trips as interest dictates. Comments from scoping efforts will be reviewed to identify potential issues for this analysis. While comments are welcome at any time, comments received within 30 days of the publication of this notice in the Federal Register will be most useful for the identification of issues and the analysis of alternatives.

It is important that reviewers provide their comments at such times and in such manner that they are useful to the agency's preparation of the environmental impact statement. Therefore, comments should be provided prior to the close of the comment period and should clearly articulate the reviewer's concerns and contentions.

Dated: April 2, 2010.
Mary H. Peterson,
Forest Supervisor, Medicine Bow-Routt National Forests.

[FR Doc. 2010-8618 Filed 4-15-10; 8:45 am]

BILLING CODE 3410-11-M